DEPARTMENT OF JUSTICE

Office of Justice Programs

[OJP (OJJDP) Docket No. 1585]

Meeting (Webinar) of the Federal Advisory Committee on Juvenile Justice

AGENCY: Office of Juvenile Justice and Delinquency Prevention, Office of Justice Programs, U.S. Department of Justice.

ACTION: Notice of meeting.

SUMMARY: The Office of Juvenile Justice and Delinquency Prevention (OJJDP) announces a meeting of the Federal Advisory Committee on Juvenile Justice (FACJJ).

Dates and Locations: The meeting will take place online, as a webinar, on Friday, April 20, 2012 from 1 to 5 p.m. ET.

FOR FURTHER INFORMATION CONTACT: Robin Delany-Shabazz, Designated Federal Official, OJJDP, Robin.Delany-Shabazz@usdoj.gov, or 202-307-9963. [Note: This is not a toll-free number.]

SUPPLEMENTARY INFORMATION: The Federal Advisory Committee on Juvenile Justice (FACJJ), established pursuant to Section 3(2)A of the Federal Advisory Committee Act (5 U.S.C. App. 2), will meet to carry out its advisory functions under Section 223(f)(2)(C-E) of the Juvenile Justice and Delinquency Prevention Act of 2002. The FACJJ is composed of representatives from the states and territories. FACJJ member duties include: reviewing Federal policies regarding juvenile justice and delinquency prevention; advising the OJJDP Administrator with respect to particular functions and aspects of OJJDP; and advising the President and Congress with regard to State perspectives on the operation of OJJDP and Federal legislation pertaining to juvenile justice and delinquency prevention. More information may be found at www.facjj.org.

Meeting Agenda: The agenda will include: (a) Welcome and introductions; (b) remarks from the Administrator; (c) discussion of the OJJDP preliminary program plan; (d) discussion of issues related to information-sharing, the Federal Education Rights and Privacy Act and youth justice; and (e) discussion of subcommittee options and work products; (f) other business; and (i) adjournment.

Members of the FACJJ and of the public who wish to attend must pre-register online at https://ojjdptta.webex.com/ojjdptta/onstage/g.php?d=746513952&t=a no later than Wednesday, April 18, 2012. Upon registration, information will be sent to you at the email you provide to enable you to connect to the webinar. If you cannot access the registration using the link provided above, please try to access the online registration via the link on the FACJJ Web site at www.facjj.org. Should problems arise with webinar registration, call Michelle Duhart-Tonge at 703-789-4712. [Note: this is not a toll-free telephone number.] Members of the public will be able to listen to and view the webinar as observers but will not be able to actively participate.

Written Comments: Interested parties may submit written comments in advance by Monday, April 16, 2012, to Robin Delany-Shabazz, Designated Federal Official for the Federal Advisory Committee on Juvenile Justice, OJJDP, by email to Robin.Delany-Shabazz@usdoj.gov. Alternatively, fax your comments to 202-307-2819 and call Joyce Mosso Stokes at 202-305-4445 to ensure its receipt. [Note: These are not toll-free numbers.]

Melodee Hanes,
Acting Administrator, Office of Juvenile Justice and Delinquency Prevention.

[FR Doc. 2012-8132 Filed 4-4-12; 8:45 am]

BILLING CODE 4410-18-P